DEPARTMENT OF THE TREASURY

Internal Revenue Service

Proposed Collection; Comment Request for Forms: Exempt Organization—990, 990-BL, 990-EZ, 990-N, 990-PF, 990-T, 990-W, 990 SCH E, 990 SCH I, 990 SCH M, 990 SCH D, 990 SCH F, 990 SCH H, 990 SCH J, 990 SCH K, 990 SCH R, 990/990-EZ SCH A, 990/990-EZ SCH C, 990/990-EZ SCH G, 990/990-EZ SCH L, 990/990-EZ SCH N, 990/990-EZ SCH O, 990/990-EZ/990-PF SCH B, 1023, 1023-EZ, 1023-Interactive, 1024, 1024-A, 1028, 1120-POL, 4720, 5578, 5884-C, 6069, 6497, 8038, 8038-B, 8038-CP, 8038-G, 8038-GC, 8038-R, 8038-T, 8038-TC, 8282, 8328, 8330, 8453-E.O., 8453-X, 8718, 8868, 8870, 8871, 8872, 8879-E.O., 8886-T, 8899

AGENCY: Internal Revenue Service (IRS), Treasury.

ACTION: Notice and request for comments.

SUMMARY: The Internal Revenue Service, as part of its continuing effort to reduce paperwork and respondent burden, invites the general public and other Federal agencies to take this opportunity to comment on proposed and continuing information collections, as required by the Paperwork Reduction Act of 1995 (PRA). This notice requests comments on all forms used by tax-exempt organizations.

DATES: Written comments should be received on or before November 25, 2019 to be assured of consideration.

ADDRESSES: Direct all written comments to Laurie Brimmer, Internal Revenue Service, Room 6526, 1111 Constitution Avenue NW, Washington, DC 20224.

Requests for additional information or copies of the form and instructions should be directed to Elaine Christophe, at Internal Revenue Service, Room 6526, 1111 Constitution Avenue NW, Washington, DC 20224, or through the internet, at Elaine.H.Christophe@irs.gov.

SUPPLEMENTARY INFORMATION:

Forms

• Exempt Organization 990, 990-BL, 990-EZ, 990-N, 990-PF, 990-T, 990-W, 990 SCH E, 990 SCH I, 990 SCH M, 990 SCH D, 990 SCH F, 990 SCH H, 990 SCH J, 990 SCH K, 990 SCH R, 990/990-EZ SCH A, 990/990-EZ SCH C, 990/990-EZ SCH G, 990/990-EZ SCH L, 990/990-EZ SCH N, 990/990-EZ SCH O, 990/990-EZ/990-PF SCH B, 1023, 1023-EZ, 1023-Interactive, 1024, 1024-A, 1028, 1120-POL, 4720, 5578, 5884-C, 6069, 6497, 8038, 8038-B, 8038-CP, 8038-G, 8038-GC, 8038-R, 8038-T, 8038-TC, 8282, 8328, 8330, 8453-E.O., 8453-X, 8718, 8868, 8870, 8871, 8872, 8879-E.O., 8886-T, 8899 related and all attachments to these forms (see the Appendix-A to this notice). With this notice, the IRS is also announcing significant changes to (1) the manner in which tax forms used by tax-exempt organizations will be approved under the PRA and (2) its method of estimating the paperwork burden imposed on all tax-exempt organizations.

Related Internal Revenue Service and The Department of Treasury Guidance

Pub 1075, EE-111-80 (TD 8019—Final) Public Inspection of Exempt Organization Return

TD 8033 (TEMP) Tax Exempt Entity Leasing (REG-209274-85)

Revenue Procedure 98-19, Exceptions to the notice and reporting requirements of section 6033(e)(1) and the tax imposed by section 6033(e)(2)

REG-246256-96 (Final TD 8978) Excise Taxes on Excess Benefit Transactions

T.D. 8861, Private Foundation Disclosure Rules

Notice 2006-109—Interim Guidance Regarding Supporting Organizations and Donor Advised Funds

Disclosure by taxable party to the tax-exempt entity

Reinstatement and Retroactive Reinstatement for Reasonable Cause (Rev. Proc. 2014-11) and Transitional Relief for Small Organizations (Notice 2011-43) under IRC § 6033(j)

TD 8086—Election for $10 Million Limitation on Exempt Small Issues of Industrial Development Bonds; Supplemental Capital Expenditure Statements (LR-185-84 Final)

Arbitrage Restrictions and Guidance on Issue Price Definition for Tax Exempt Bonds

TD 8712 (Final), Definition of Private Activity Bonds; TD 9741, General Allocation and Accounting Regulations Under Section 141; Remedial Actions for Tax-Exempt Bonds

FI-28-96 (Final) Arbitrage Restrictions on Tax-Exempt Bonds

REG-121475-03 (TD 9495-Final) Qualified Zone Academy Bonds: Obligations of States and Political Subdivisions

Notice 2009-26, Build America Bonds and Direct Payment Subsidy Implementation

Notice 2012-48: Tribal Economic Development Bonds

TD 7925 7952—Indian Tribal Governments Treated As States For Certain Purposes

Revenue Procedure 97-15, Section 103—Remedial Payment Closing Agreement Program

T.D. 8802—Certain Asset Transfers to a Tax-Exempt Entity

TD 7852—Registration Requirements with Respect to Debt Obligations (NPRM, LR-255-82)

Notice 2007-70—Charitable Contributions of Certain Motor Vehicles, Boats, and Airplanes. Reporting requirements under Sec. 170(f)(12)(D)

TD 8124—Time and Manner of Making Certain Elections Under the Tax Reform Act of 1986

Publication 1075 Tax Information Security Guidelines for Federal, State and Local Agencies

Today, over 70 percent of all tax-exempt organization returns other than Form 990-N and all Forms 990-N are prepared using software by the taxpayer or with preparer assistance.

There are 56 forms used by tax-exempt organizations. These include Forms 990, 990-PF, 990-N, and 990-T, and related schedules tax-exempt organizations attach to their tax returns (see Appendix-A to this notice). In addition, there are numerous regulations, notices and Treasury Decisions that are covered by the burden estimate provided in this notice. (See Appendix B for a list).

Taxpayer Burden Estimates

Note: These estimates are preliminary. They will be revised to incorporate a more comprehensive review of changes from legislative and regulatory changes since 2018 in the 30-day notice.

Proposed PRA Submission to OMB

Title: Tax-Exempt Organization Tax Compliance Burden.

OMB Number: 1545-0047.

Form Numbers: Forms 990, 990-EZ, 990-PF, 990-N, 990-T and all attachments to these forms and related forms (see the Appendix-A to this notice).

Abstract: OMB number 1545-0047 reports the estimated burden incurred by tax-exempt organizations to meet their tax-compliance-related reporting requirements. The estimate is preliminary and reflects only the change in burden related to technical adjustments related to updating the number of affected taxpayers to reflect the FY2020 forecast.

Affected Public: Tax-Exempt Organizations.

Estimated Number of Respondents: 1,548,500.

Total Estimated Time: 50.1 million hours.

Estimated Time per Respondent: 32.38 hours.

Total Estimated Out-of-Pocket Costs: $1.30 billion.

Estimated Out-of-Pocket Cost per Respondent: $841.

Total Estimated Monetized Burden: $3.61 billion.

Estimated Total Monetized Burden per Respondent: $2,331.

Note: Amounts below are for FY2020. Reported time and cost burdens are national averages and do not necessarily reflect a “typical” case. Most taxpayers experience lower than average burden, with taxpayer burden varying considerably by taxpayer type. Detail may not add due to rounding.

Note: The average burden for Forms 990, 990-PF, 990-N and 990-T will be separately stated in the 30-day notice for this FRN when the burden estimate is finalized.

An agency may not conduct or sponsor, and a person is not required to respond to, a collection of information unless the collection of information displays a valid OMB Control Number. Books or records relating to a collection of information must be retained as long as their contents may become material in the administration of any internal revenue law. Generally, tax returns and tax return information are confidential, as required by 26 U.S.C. 6103.

Request for Comments

Comments submitted in response to this notice will be summarized and/or included in the request for OMB approval. All comments will become a matter of public record. Comments are invited on: (a) Whether the collection of information is necessary for the proper performance of the functions of the agency, including whether the information will have practical utility; (b) the accuracy of the agency's estimate of the burden of the collection of information; (c) ways to enhance the quality, utility, and clarity of the information to be collected; (d) ways to minimize the burden of the collection of information on respondents, including through the use of automated collection techniques or other forms of information technology; and (e) estimates of capital or start-up costs and costs of operation, maintenance, and purchase of services to provide information.

Approved: September 18, 2019.
Laurie Brimmer,
Senior Tax Analyst.

Appendix A

No. | Title | Description
990 |  | Return of Organization Exempt From Income Tax.
990 | BL | Information and Initial Excise Tax Return for Black Lung Benefit Trusts and Certain Related Persons.
990 | EZ | Short Form Return of Organization Exempt From Income Tax.
990 | N | Electronic Notice (e-Postcard) for Tax-Exempt Organizations Not Required to File Form 990 or Form 990EZ.
990 | PF | Return of Private Foundation or Section 4947(a)(1) Trust Treated as Private Foundation.
990 | T | Exempt Organization Business Income Tax Return and Proxy Tax.
990 | W | Estimated Tax on Unrelated Business Taxable Income for Tax-Exempt Organizations.
990 | 990-EZ, 990-PF SCH B | Schedule of Contributors.
990 | OR 990-EZ SCH A | Public Charity Status and Public Support.
990 | OR 990-EZ SCH C | Political Campaign and Lobbying Activities.
990 | OR 990-EZ SCH E | Schools.
990 | OR 990-EZ SCH G | Supplemental Information Regarding Fundraising or Gaming Activities.
990 | OR 990-EZ SCH L | Transactions With Interested Persons.
990 | OR 990-EZ SCH N | Liquidation, Termination, Dissolution, or Significant Disposition of Assets.
990 | OR 990-EZ SCH O | Supplemental Information to Form 990 or 990-EZ.
990 | SCH D | Supplemental Financial Statements.
990 | SCH F | Statement of Activities Outside the United States.
990 | SCH H | Hospitals.
990 | SCH I | Grants and Other Assistance to Organizations, Governments, and Individuals in the United States.
990 | SCH J | Compensation Information.
990 | SCH K | Supplemental Information on Tax-Exempt Bonds.
990 | SCH M | Noncash Contributions.
990 | SCH R | Related Organizations and Unrelated Partnerships.
1023 |  | Application for Recognition of Exemption Under Section 501(c)(3) of the Internal Revenue Code.
1023 | EZ | Streamlined Application for Recognition of Exemption Under Section 501(c)(3) of the Internal Revenue Code.
1023 | I | Application for Recognition of Exemption Under Section 501(c)(3) of the Internal Revenue Code.
1024 |  | Application for Recognition of Exemption Under Section 501(a).
1024 | A | Application for Recognition of Exemption Under Section 501(c)(4) of the Internal Revenue Code.
1028 |  | Application for Recognition of Exemption Under Section 521 of the Internal Revenue Code.
1120 | POL | U.S. Income Tax Return for Certain Political Organizations.
4720 |  | Return of Certain Excise Taxes Under Chapters 41 and 42 of the Internal Revenue Code.
5578 |  | Annual Certification of Racial Nondiscrimination for a Private School Exempt From Federal Income Tax.
5884 | C | Work Opportunity Credit for Qualified Tax-Exempt Organizations Hiring Qualified Veterans.
6069 |  | Return of Excise Tax on Excess Contributions to Black Lung Benefit Trust Under Section 4953 and Computation of Section 192 Deduction.
6497 |  | Information Return of Nontaxable Energy Grants or Subsidized Energy Financing.
8038 |  | Information Return for Tax-Exempt Private Activity Bond Issues.
8038 | B | Information Return for Build America Bonds and Recovery Zone Economic Development Bonds.
8038 | CP | Return for Credit Payments to Issuers of Qualified Bonds.
8038 | G | Information Return for Government Purpose Tax-Exempt Bond Issues.
8038 | GC | Consolidated Information Return for Small Tax-Exempt Government Bond Issues.
8038 | R | Request for Recovery of Overpayment Under Arbitrage Rebate Provisions.
8038 | T | Arbitrage Rebate and Penalty in Lieu of Arbitrage Rebate.
8038 | TC | Information Return for Tax Credit and Specified Tax Credit Bonds as the result of the new Hire bill.
8282 |  | Donee Information Return.
8328 |  | Carry forward Election of Unused Private Activity Bond Volume.
8330 |  | Issuer's Quarterly Information Return for Mortgage Credit Certificates (MCCs).
8453 | EO | Exempt Organization Declaration and Signature for Electronic Filing.
8453 | X | Political Organization Declaration for Electronic Filing of Notice of Section 527 Status.
8718 |  | User Fee for Exempt Organization Determination Letter Request.
8868 |  | Application for Automatic Extension of Time To File an Exempt Organization Return.
8870 |  | Information Return for Transfers Associated With Certain Personal Benefit Contracts.
8871 |  | Political Organization Notice of Section 527 Status.
8872 |  | Political Organization Report of Contributions and Expenditures.
8879 | EO | IRS e-file Signature Authorization for an Exempt Organization.
8886 | T | Disclosure by Tax-Exempt Entity Regarding Prohibited Tax Shelter Transaction.
8899 |  | Notice of Income From Donated Intellectual Property.

Appendix B

Title/description
EE-111-80 (TD 8019—Final) Public Inspection of Exempt Organization Return.
TD 8033 (TEMP) Tax Exempt Entity Leasing (REG-209274-85).
Revenue Procedure 98-19, Exceptions to the notice and reporting requirements of section 6033(e)(1) and the tax imposed by section 6033(e)(2).
REG-246256-96 (Final TD 8978) Excise Taxes on Excess Benefit Transactions.
T.D. 8861, Private Foundation Disclosure Rules.
Notice 2006-109—Interim Guidance Regarding Supporting Organizations and Donor Advised Funds.
Disclosure by taxable party to the tax-exempt entity.
Reinstatement and Retroactive Reinstatement for Reasonable Cause (Rev. Proc. 2014-11) and Transitional Relief for Small Organizations (Notice 2011-43) under IRC § 6033(j).
TD 8086—Election for $10 Million Limitation on Exempt Small Issues of Industrial Development Bonds; Supplemental Capital Expenditure Statements (LR-185-84 Final).
Arbitrage Restrictions and Guidance on Issue Price Definition for Tax Exempt Bonds.
TD 8712 (Final), Definition of Private Activity Bonds; TD 9741, General Allocation and Accounting Regulations Under Section 141; Remedial Actions for Tax-Exempt Bonds.
FI-28-96 (Final) Arbitrage Restrictions on Tax-Exempt Bonds.
REG-121475-03 (TD 9495-Final) Qualified Zone Academy Bonds: Obligations of States and Political Subdivisions.
Notice 2009-26, Build America Bonds and Direct Payment Subsidy Implementation.
Notice 2012-48: Tribal Economic Development Bonds.
TD 7925—Indian Tribal Governments Treated As States For Certain Purposes.
Revenue Procedure 97-15, Section 103—Remedial Payment Closing Agreement Program.
T.D. 8802—Certain Asset Transfers to a Tax-Exempt Entity.
TD 7852—Registration Requirements with Respect to Debt Obligations (NPRM, LR-255-82).
Notice 2007-70—Charitable Contributions of Certain Motor Vehicles, Boats, and Airplanes. Reporting requirements under Sec. 170(f)(12)(D).
TD 8124—Time and Manner of Making Certain Elections Under the Tax Reform Act of 1986.
Publication 1075 Tax Information Security Guidelines for Federal, State and Local Agencies.

[FR Doc. 2019-20640 Filed 9-23-19; 8:45 a.m.]

BILLING CODE 4830-01-P